DEPARTMENT OF JUSTICE

Foreign Claims Settlement Commission

Agency Information Collection Activities: Proposed Collection; Comments Requested

ACTION: 30-Day Notice of Information Collection Under Review; Claims of U.S. Nationals Against Albania.

The Department of Justice (DOJ), Foreign Claims Settlement Commission (FCSC) has submitted the following information collection request to the Office of Management and Budget (OMB) for review and approval in accordance with the Paperwork Reduction Act of 1995. The proposed information collection is published to obtain comments from the public. This proposed information collection was previously published in the Federal Register Volume 69, Number 156, on page 50215, on August 13, 2004, allowing for a 60 day comment period. The purpose of this notice is to allow for an additional 30 days for public comment until December 30, 2004. This process is conducted in accordance with 5 CFR 1320.10.

Written comments and/or suggestions regarding the items contained in this notice, especially the estimated public burden and associated response time, should be directed to the Office of Management and Budget, Office of Information and Regulatory Affairs, Attention Department of Justice Desk Officer, Washington, DC 20503. Additionally, comments may be submitted to OMB via facsimile to (202) 395-5806. Written comments and suggestions from the public concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Reinstatement, without change, of a previously approved collection for which approval has expired.

(2) Title of the Form/Collection: Claims of U.S. Nationals Against Albania.

(3) Agency form number, if any, and the applicable component of the Department of Justice sponsoring the collection: Form Number FCSC 1-04, Foreign Claims Settlement Commission.

(4) Affected public who will be asked or required to respond, as well as a brief abstract: Primary: Individuals or households. Others: Not-for-profit institutions. The Information collected will be used as the basis for determining the entitlement of claimants to awards payable by the Department of the Treasury, out of the Albania Compensation Fund in claims of U.S. nationals against the Albanian government for expropriation of property.

(5) An estimate of the total number of respondents and the amount of time estimated for an average respondent to respond: 100 one-time annual respondents at 2 hours per response.

(6) An estimate of the total public burden (in hours) associated with the collection: 200 annual burden hours.

If additional information is required contact: Brenda E. Dyer, Department Clearance Officer, United States Department of Justice, Justice Management Division, Policy and Planning Staff, Patrick Henry Building, Suite 1600, 601 D Street, NW., Washington, DC 20530.

Dated: November 23, 2004.
Brenda E. Dyer,
Department Clearance Officer, Department of Justice.

[FR Doc. 04-26353 Filed 11-29-04; 8:45 am]

BILLING CODE 4410-BA-P